DEPARTMENT OF COMMERCE

International Trade Administration

[A-469-814]

Chlorinated Isocyanurates From Spain: Preliminary No Shipments Determination of Antidumping Duty Administrative Review; 2018-2019

AGENCY: Enforcement and Compliance, International Trade Administration, Department of Commerce.

SUMMARY: The Department of Commerce (Commerce) is conducting an administrative review of the antidumping duty order on chlorinated isocyanurates (chlorinated isos) from Spain for the period of review (POR) June 1, 2018 through May 31, 2019. The review covers one producer/exporter of the subject merchandise, Ercros S.A. (Ercros). We preliminarily determine that Ercros had no shipments of subject merchandise during the POR. Interested parties are invited to comment on these preliminary results.

DATES: Applicable September 30, 2019.

FOR FURTHER INFORMATION CONTACT: Andrew Huston, AD/CVD Operations, Office VII, Enforcement and Compliance, International Trade Administration, U.S. Department of Commerce, 1401 Constitution Avenue NW, Washington, DC 20230; telephone: (202) 482-4261.

SUPPLEMENTARY INFORMATION:

Scope of the Order

The products covered by the order are chlorinated isocyanurates. Chlorinated isocyanurates are derivatives of cyanuric acid, described as chlorinated s-triazine triones. There are three primary chemical compositions of chlorinated isocyanurates: (1) Trichloroisocyanuric acid (Cl3(NCO)3), (2) sodium dichloroisocyanurate (dihydrate) (NaCl2(NCO)3 2H2O), and (3) sodium dichloroisocyanurate (anhydrous) (NaCl2(NCO)3). Chlorinated isocyanurates are available in powder, granular, and tableted forms. The order covers all chlorinated isocyanurates. Chlorinated isocyanurates are currently classifiable under subheadings 2933.69.6015, 2933.69.6021, and 2933.69.6050 of the Harmonized Tariff Schedule of the United States (HTSUS). The tariff classification 2933.69.6015 covers sodium dichloroisocyanurates (anhydrous and dihydrate forms) and trichloroisocyanuric acid. The tariff classifications 2933.69.6021 and 2933.69.6050 represent basket categories that include chlorinated isocyanurates and other compounds including an unfused triazine ring. Although the HTSUS subheadings are provided for convenience and customs purposes, the written description of the scope of the order is dispositive.

Preliminary Determination of No Shipments

Commerce published in the Federal Register a notice of initiation of this administrative review of the antidumping duty order on chlorinated isos from Spain covering one company, Ercros.¹ Commerce received a timely submission from Ercros reporting that it did not sell or export the subject merchandise to the United States during the POR.² On August 29, 2019, we transmitted a “No-Shipment Inquiry” to U.S. Customs and Border Protection (CBP) regarding this company. Pursuant to this inquiry, Commerce received no notification from CBP of entries of subject merchandise from Ercros within the ten-day deadline. Accordingly, based on record evidence, we preliminarily determine that Ercros had no shipments of subject merchandise during the POR. Consistent with our practice, Commerce finds that it is not appropriate to rescind the review with respect to Ercros, but rather to complete the review with respect to Ercros and issue appropriate instructions to CBP based on the final results of this review.³

¹ See Initiation of Antidumping Countervailing Duty Administrative Reviews, 84 FR 36572 (July 29, 2019).

² See Ercros' Letter, “Chlorinated Isocyanurates from Spain; Revised No Shipment Certification,” dated August 26, 2019.

³ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010) (collectively, Magnesium Metal from the Russian Federation).

Public Comment

Interested parties may submit cases briefs no later than 30 days after the date of publication of this notice.⁴ Rebuttal briefs, limited to issues raised in the case briefs, may be filed not later than five days after the date for filing case briefs.⁵ Parties who submit case briefs or rebuttal briefs in this proceeding are encouraged to submit with each argument: (1) A statement of the issue; (2) a brief summary of the argument; and (3) a table of authorities.⁶

⁴ See 19 CFR 351.309(c)(ii).

⁵ See 19 CFR 351.309(d).

⁶ See 19 CFR 351.309(c)(2) and (d)(2).

Pursuant to 19 CFR 351.310(c), interested parties who wish to request a hearing, or to participate if one is requested, must submit a written request to the Assistant Secretary for Enforcement and Compliance, U.S. Department of Commerce. Requests should contain the party's name, address, and telephone number, the number of participants, whether any participant is a foreign national, and a list of the issues to be discussed. All documents must be filed electronically using ACCESS.⁷ An electronically-filed request must be received successfully in its entirety by ACCESS by 5:00 p.m. Eastern Standard Time, within 30 days after the date of publication of this notice.⁸ If a request for a hearing is made, Commerce intends to hold the hearing at the U.S. Department of Commerce, 1401 Constitution Avenue NW, Washington, DC 20230, at a time and date to be determined. Parties should confirm by telephone the date, time, and location of the hearing two days before the scheduled date.

⁷ ACCESS is available at https://access.trade.gov.

⁸ See 19 CFR 351.310(c).

Commerce will issue the final results of this administrative review, including the results of its analysis of the issues raised in any written briefs, not later than 120 days after the date of publication of this notice, pursuant to section 751(a)(3)(A) of the Act.

Assessment Rates

In accordance with Commerce's practice, we find it appropriate to complete the review and issue liquidation instructions to CBP concerning entries for Ercros following issuance of the final results of review. If we continue to find that Ercros had no shipments of subject merchandise in the final results, we will instruct CBP to liquidate any existing entries of merchandise produced by Ercros, but exported by other parties, at the rate for the intermediate reseller, if available, or at the all-others rate.⁹

⁹ See, e.g., Magnesium Metal from the Russian Federation.

We intend to issue instructions to CBP 15 days after the publication date of the final results of this review.

Cash Deposit Requirements

The following cash deposit requirements will be effective for all shipments of the subject merchandise entered, or withdrawn from warehouse, for consumption on or after the publication date of the final results of this administrative review, as provided by section 751(a)(2)(C) of the Act: (1) The cash deposit rate for Ercros will remain unchanged from the rate assigned to the company in the most recently completed review of that company; (2) for other manufacturers and exporters covered in a prior segment of the proceeding, the cash deposit rate will continue to be the company-specific rate published for the most recently completed segment of this proceeding in which that manufacturer or exporter participated; (3) if the exporter is not a firm covered in this review, a prior review, or the original investigation, but the manufacturer is, the cash deposit rate will be the rate established for the most recently completed segment of this proceeding for the manufacturer of subject merchandise; and (4) the cash deposit rate for all other manufacturers or exporters will continue to be 24.83 percent, the all-others rate established in the investigation.¹⁰ These deposit requirements, when imposed, shall remain in effect until further notice.

¹⁰ See Oil Country Tubular Goods from India: Final Determination of Sales at Less Than Fair Value and Final Negative Determination of Critical Circumstances, 79 FR 41981 (July 18, 2014).

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing this administrative review and notice in accordance with sections 751(a)(1) and 777(i) of the Act.

Dated: September 23, 2019.
Jeffrey I. Kessler,
Assistant Secretary for Enforcement and Compliance.

[FR Doc. 2019-21154 Filed 9-27-19; 8:45 am]

BILLING CODE 3510-DS-P